GENERAL SERVICES ADMINISTRATION

[OMB Control No. 3090-XXXX]

General Services Administration, Federal Acquisition Service, Management Services Center; Information Collection; Management Services Center (MSC) Customer Satisfaction E-Survey

AGENCY: Management Services Center (MSC), Federal Acquisition Service (FAS), General Services Administration (GSA).

ACTION: Notice of request for comments regarding a new OMB clearance.

SUMMARY: Under the provisions of the Paperwork Reduction Act of 1995 (44 U.S.C. Chapter 35), the General Services Administration will be submitting to the Office of Management and Budget (OMB) a request to review and approve a new information collection requirement regarding a Management Services Center (MSC) Customer Satisfaction E-Survey.

Public comments are particularly invited on: Whether this collection of information is necessary and whether it will have practical utility; whether our estimate of the public burden of this collection of information is accurate and based on valid assumptions and methodology; and ways to enhance the quality, utility, and clarity of the information to be collected.

DATES: Submit comments on or before: May 1, 2009.

FOR FURTHER INFORMATION CONTACT: Ms. Geri Haworth, Director, Business Management Division, Management Services Center, Federal Acquisition Service, at telephone (253) 931-7064 or via e-mail to geri.haworth@gsa.gov.

ADDRESSES: Submit comments regarding this burden estimate or any other aspect of this collection of information, including suggestions for reducing this burden to the Regulatory Secretariat (VPR), General Services Administration, Room 4041, 1800 F Street, NW., Washington, DC 20405. Please cite OMB Control No. 3090-XXXX, Management Services Center (MSC) Customer Satisfaction E-Survey, in all correspondence.

SUPPLEMENTARY INFORMATION:

A. Purpose

The data collected from the Management Services Center (MSC) Customer Satisfaction E-Survey will be used to measure customer satisfaction and to identify areas where service to Federal agencies and industry requires improvement.

B. Annual Reporting Burden

Respondents: 400.

Responses per Respondent: 1.

Hours per Response: .05.

Total Burden Hours: 20.

Obtaining Copies of Proposals: Requesters may obtain a copy of the information collection documents from the General Services Administration, Regulatory Secretariat (VPR), 1800 F Street, NW., Room 4041, Washington, DC 20405, telephone (202) 501-4755. Please cite OMB Control No. 3090-XXXX, Management Services Center (MSC) Customer Satisfaction E-Survey, in all correspondence.

Dated: March 23, 2009.

[FR Doc. E9-7244 Filed 3-31-09; 8:45 am]

BILLING CODE 6820-DH-P